SECURITIES AND EXCHANGE COMMISSION

[Release No. 34-87690; File No. SR-CboeBYX-2019-009]

Self-Regulatory Organizations; Cboe BYX Exchange, Inc.; Notice of Withdrawal of a Proposed Rule Change To Amend the Fee Schedule Assessed on Members To Establish a Monthly Trading Rights Fee

December 9, 2019.

On May 2, 2019, Cboe BYX Exchange, Inc. (“BYX” or the “Exchange”) filed with the Securities and Exchange Commission (“Commission”), pursuant to Section 19(b)(1) of the Securities Exchange Act of 1934 (“Act”),¹ and Rule 19b-4 thereunder,² a proposed rule change to amend the BYX Fee Schedule to establish a monthly Trading Rights Fee to be assessed on Members.³ The proposed rule change was immediately effective upon filing with the Commission pursuant to Section 19(b)(3)(A) of the Act.⁴ The proposed rule change was published for comment in the Federal Register on May 16, 2019.⁵ On June 28, 2019, the Commission temporarily suspended the proposed rule change and instituted proceedings to determine whether to approve or disapprove the proposed rule change.⁶ In response to the BYX OIP, the Commission received three comment letters, including a response letter from the Exchange.⁷ On November 12, 2019, pursuant to Section 19(b)(2) of the Act,⁸ the Commission designated a longer period within which to approve or disapprove the proposed rule change.⁹ On November 22, 2019, the Exchange withdrew the proposed rule change (SR-CboeBYX-2019-009).

¹ 15 U.S.C. 78s(b)(1).

² 17 CFR 240.19b-4.

³ The Commission notes that BYX initially filed the proposed rule change on April 29, 2019 (SR-CboeBYX-2019-006). On May 2, 2019, BYX withdrew that filing and submitted the present proposal (SR-CboeBYX-2019-009).

⁴ 15 U.S.C. 78s(b)(3)(A).

⁵ See Securities Exchange Act Release No. 85841 (May 10, 2019), 84 FR 22199.

⁶ See Securities Exchange Act Release No. 86232, 84 FR 32227 (July 05, 2019) (“BYX OIP”).

⁷ See Letters from Theodore R. Lazo, Managing Director and Associate General Counsel, SIFMA, dated July 26, 2019; Tyler Gellasch, Executive Director, Healthy Markets, dated July 26, 2019; and Rebecca Tenuta, Counsel, Cboe Global Markets, dated August 9, 2019.

⁸ 15 U.S.C. 78s(b)(2).

⁹ See Securities Exchange Act Release No. 87499, 84 FR 63698 (November 18, 2019). The Commission designated January 11, 2020, as the date by which the Commission would approve or disapprove the proposed rule change.

For the Commission, by the Division of Trading and Markets, pursuant to delegated authority.¹⁰
¹⁰ 17 CFR 200.30-3(a)(12).
Jill M. Peterson,
Assistant Secretary.

[FR Doc. 2019-26840 Filed 12-12-19; 8:45 am]

BILLING CODE 8011-01-P